DEPARTMENT OF ENERGY

Federal Energy Regulatory Commission

[Docket No. RP02-165-001]

Horizon Pipeline Company, L.L.C.; Notice of Withdrawal of Proposed Tariff Sheet

March 27, 2002.

Take notice that on March 18, 2002, Horizon Pipeline Company, L.L.C. (Horizon) filed with the Federal Energy Regulatory Commission (Commission) to withdraw its First Revised Sheet No. 209 from its pending February 27, 2002 filing in Docket No. RP02-165-000 (February 27th Filing).

Horizon states that one of the proposed changes in its February 27th Filing was to place responsibility for damages on the party tendering non-conforming gas. That change was reflected on First Revised Sheet No. 209 in the February 27th Filing. Subsequently, as a result of discussions between Horizon and Nicor Gas, which will be a major shipper on Horizon, Horizon agreed to withdraw First Revised Sheet No. 209 from its February 27th filing.

Horizon states that copies of the filing are being mailed to interested state commissions and all parties set out on the Commission's official service lists in Docket Nos. RP02-165 and CP00-129, et al.

Any person desiring to protest said filing should file a protest with the Federal Energy Regulatory Commission, 888 First Street, NE., Washington, DC 20426, in accordance with section 385.211 of the Commission's Rules and Regulations. All such protests must be filed on or before April 3, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-7894 Filed 3-29-02; 8:45 am]

BILLING CODE 6717-01-P